DEPARTMENT OF THE INTERIOR

Bureau of Ocean Energy Management

[Docket No. BOEM-2017-0002; MMAA104000]

Final Environmental Impact Statement for Outer Continental Shelf, Gulf of Mexico, 2017-2022 Oil and Gas Lease Sales 249, 250, 251, 252, 253, 254, 256, 257, 259, and 261

AGENCY: Bureau of Ocean Energy Management, Interior.

ACTION: Notice of availability of a Final Environmental Impact Statement.

SUMMARY: The Bureau of Ocean Energy Management (BOEM) is announcing the availability of a Final Environmental Impact Statement (FEIS) for Outer Continental Shelf (OCS), Gulf of Mexico (GOM) Lease Sales 249, 250, 251, 252, 253, 254, 256, 257, 259, and 261. The FEIS provides a discussion of potential significant impacts of the proposed action, provides an analysis of reasonable alternatives to the proposed action, and identifies BOEM's preferred alternative.

ADDRESSES: The FEIS is available on the BOEM Web site at http://www.boem.gov/nepaprocess/. BOEM will primarily distribute digital copies of the FEIS on compact discs. You may request a copy on compact disc, a paper copy, or the location of a library with a paper copy of the FEIS from Mr. Greg Kozlowski, Deputy Regional Supervisor, Office of Environment, at (504) 736-2512 or greg.kozlowski@boem.gov.

FOR FURTHER INFORMATION CONTACT: Mr. Greg Kozlowski, Deputy Regional Supervisor, Office of Environment, (504) 736-2512 or greg.kozlowski@boem.gov.

Authority: This Notice of Availability (NOA) of a Final Environmental Impact Statement is published pursuant to the National Environmental Policy Act of 1969, as amended (42 U.S.C. 4231 et seq.), and 43 CFR 46.415.

Dated: March 1, 2017.
Walter D. Cruickshank,
Acting Director, Bureau of Ocean Energy Management.

[FR Doc. 2017-04700 Filed 3-9-17; 8:45 am]

BILLING CODE 4310-MR-P